DEPARTMENT OF LABOR

Employment and Training Administration

20 CFR Part 651

[Docket No. ETA-2022-0003]

RIN 1205-AC02

Wagner-Peyser Act Staffing; Corrections

AGENCY: Employment and Training Administration, Labor.

ACTION: Correcting amendments.

SUMMARY: The U.S. Department of Labor (Department) published the Wagner-Peyser Act Staffing rule on November 24, 2023. In that rulemaking document, the Department inadvertently removed the definition of State Workforce Agency (SWA) official. The Department is correcting the regulatory text to align with the preamble description of retaining the definition of State Workforce Agency (SWA) official. This document corrects the final regulations that became effective January 23, 2024.

DATES: Effective on February 28, 2024.

FOR FURTHER INFORMATION CONTACT: Kim Vitelli, Administrator, Office of Workforce Investment, Employment and Training Administration, U.S. Department of Labor, 200 Constitution Avenue NW, Room C-4526, Washington, DC 20210, Telephone: (202) 693-3980 (voice) (this is not a toll- free number). For persons with a hearing or speech disability who need assistance to use the telephone system, please dial 711 to access telecommunications relay services.

SUPPLEMENTARY INFORMATION: On November 24, 2023, the Department published a final rule (88 FR 82658) making changes to staffing requirements under the Wagner-Peyser Act. Within the amendments to 20 CFR part 651, the introduction of the changes to the definitions in 20 CFR 651.10 specified at 2.f the removal of the definition State Workforce Agency (SWA) official. The Department intended to retain this definition as discussed in section V.B of the preamble to the final rule. This correction reinstates the definition of State Workforce Agency (SWA) official.

List of Subjects in 20 CFR Part 651

Employment, Grant programs—labor.

Accordingly, 20 CFR part 651 is corrected by making the following correcting amendments:

PART 651—GENERAL PROVISIONS GOVERNING THE WAGNER-PEYSER ACT EMPLOYMENT SERVICE

1. The authority citation for part 651 continues to read as follows:

Authority: 29 U.S.C. 49a and 49k; 38 U.S.C. 101, chapters 41 and 42; Secs. 3, 189 and 503, Pub. L. 113-128, 128 Stat. 1425 (Jul. 22, 2014).

2. Amend § 651.10 by adding in alphabetical order the definition of State Workforce Agency (SWA) official to read as follows:

§ 651.10 Definitions of terms used in this part and parts 652, 653, 654, and 658 of this chapter.

* * * * *

State Workforce Agency (SWA) official means an individual employed by the State Workforce Agency or any of its subdivisions.

* * * * *

Laura P. Watson,
Deputy Assistant Secretary for Employment and Training, Labor.

[FR Doc. 2024-03871 Filed 2-27-24; 8:45 am]

BILLING CODE 4510-FN-P